Memorandum of September 16, 2022

Delegation of Authority Under Section 610 of the Foreign Assistance Act of 1961, as Amended

Memorandum for the Secretary of State

By the authority vested in me as President by the Constitution and the laws of the United States of America, including section 621 of the Foreign Assistance Act of 1961, as amended (FAA), I hereby delegate to the Secretary of State the authority under section 610 of the FAA to make the determination necessary for and to execute the transfer of up to $130 million of Fiscal Year 2020 Foreign Military Financing funds to, and in consolidation with, the Economic Support Fund account in order to provide assistance for international energy and climate security objectives ($90 million) and for assistance for the Pacific Islands ($40 million).

You are authorized and directed to publish this memorandum in the Federal Register.

THE WHITE HOUSE,

Washington, September 16, 2022

[FR Doc. 2022-20852

Filed 9-22-22; 11:15 am]

Billing code 4710-10-P